CONSUMER PRODUCT SAFETY COMMISSION

16 CFR Part 1615

Standard for the Flammability of Children's Sleepwear: Sizes 0 Through 6X; Correction

AGENCY: Consumer Product Safety Commission.

ACTION: Correcting amendments.

SUMMARY: The Commission is amending the standard for the flammability of children's sleepwear sizes 0 through 6X to correct a measurement in a table in final regulations which were published in the Federal Register on January 19, 1999 (64 FR 2833), and to correct several typographical errors in the standard.

DATES: The corrections become effective on March 23, 2007.

FOR FURTHER INFORMATION CONTACT: Marilyn Borsari, Office of Compliance, Consumer Product Safety Commission, Washington, DC 20207; telephone (301) 504-7619; e-mail, mborsari@cpsc.gov.

SUPPLEMENTARY INFORMATION: This document corrects a measurement in a table designated as diagram 1 in the children's sleepwear standard for sizes 0 through 6X that was stated incorrectly when the Commission published final amendments to the children's sleepwear standard in 1998. The measurement in the diagram for size 5 should read 3¾ (not 3¼). This document also corrects several typographical errors that are in the standard as published in the CFR. Because these are technical corrections, there is no need to delay the effective date. 5 U.S.C. 553(d).

List of Subjects in 16 CFR Part 1615

Clothing, Consumer protection, Flammable materials, Infants and children, Labeling, Reporting and recordkeeping requirements, Sleepwear, Textiles, Warranties.

Accordingly, 16 CFR part 1615 is corrected by making the following correcting amendments:

PART 1615—STANDARD FOR THE FLAMMABILITY OF CHILDREN'S SLEEPWEAR: SIZES 0 THROUGH 6X

1. The authority citation for part 1615 continues to read as follows:

Authority: Sec. 4, 67 Stat. 112, as amended, 81 Stat. 569-570; 15 U.S.C. 1193.

§ 1615.1 [Amended]

2. In § 1615.1:

A. In paragraph (c)(3) add the word “of” between the words “Flammability” and “Clothing” and add the word “of” between the words “Flammability” and “Vinyl”;

B. In Diagram 1, in the block underneath “5″ remove “9.5 cm 3¼”″ and add, in their place “9.5 cm 3¾”″.

§ 1615.4 [Amended]

3. In § 1615.4:

A. In paragraph (b)(1) remove the word “plain” and add in its place “plan”.

B. In the last sentence in paragraph (d)(3)(i)(A) remove the word “of” and add in its place “or”.

Dated: March 19, 2007.
Todd Stevenson,
Secretary, Consumer Product Safety Commission.

[FR Doc. E7-5303 Filed 3-22-07; 8:45 am]

BILLING CODE 6355-01-P